ENVIRONMENTAL PROTECTION AGENCY

[Regional Docket No. V-2006-1, FRL-8218-1]

Clean Air Act Operating Permit Program; Petition for Objection to State Operating Permit for Louis Dreyfus Agricultural Industries, LLC

AGENCY: United States Environmental Protection Agency (USEPA).

ACTION: Notice of final order on petition to object to a state operating permit.

SUMMARY: This document announces that the USEPA Administrator has responded to a citizen petition asking USEPA to object to a Clean Air Act (Act) Title V operating permit proposed by the Indiana Department of Environmental Management (IDEM). Specifically, the Administrator has denied the petition submitted by Bunge North America (Bunge) to object to the proposed operating permit for Louis Dreyfus Agricultural Industries, LLC. (Louis Dreyfus).

Pursuant to section 505(b)(2) of the Act, a petitioner may seek judicial review in the United States Court of Appeals for the appropriate circuit for those portions of a petition which EPA denied. Any petition for review shall be filed within 60 days from the date this notice appears in the Federal Register, pursuant to section 307 of the Act.

ADDRESSES: You may review copies of the final orders, the petitions, and other supporting information at the USEPA Region 5 Office, 77 West Jackson Boulevard, Chicago, Illinois 60604. If you wish to examine these documents, you should make an appointment at least 24 hours before visiting day. Additionally, the final order for Louis Dreyfus is available electronically at: http://www.epa.gov/region07/programs/artd /air/title5/petitiondb/petitions/dreyfus_ bunge_response2006.pdf.

FOR FURTHER INFORMATION CONTACT: Pamela Blakley, Chief, Air Permitting Section, Air Programs Branch, Air and Radiation Division, USEPA, Region 5, 77 West Jackson Boulevard, Chicago, Illinois 60604, telephone (312) 886-4447.

SUPPLEMENTARY INFORMATION: The Act affords USEPA a 45-day period to review, and object to as appropriate, operating permits proposed by state permitting authorities. Section 505(b)(2) of the Act authorizes any person to petition the USEPA Administrator within 60 days after the expiration of the USEPA review period to object to state operating permits if USEPA has not done so. Petitions must be based only on objections to the permit that were raised with reasonable specificity during the public comment period provided by the state, unless the petitioner demonstrates that it was impracticable to raise these issues during the comment period or the grounds for the issues arose after this period.

On February 16, 2006, USEPA received from Bunge North America a petition requesting that USEPA object to the proposed title V operating permit for Louis Dreyfus Agricultural Industries, LLC. The petition raised two objections to the permit: (1) IDEM failed to respond adequately to comments filed on the draft permit; and (2) USEPA's comments on the permit, summarized in IDEM's response to comments, failed to provide clarity with respect to regulatory and policy determinations used in drafting the permit.

On July 21, 2006, the Administrator issued an order denying the petition on both issues. In response to the first issue, USEPA found that the Petitioner did not provide any information to show that USEPA had made inconsistent determinations or that IDEM's approach differed from USEPA's. In response to the second issue, USEPA found that the petitioner did not specify any information which demonstrated a conflict between IDEM's decisions and USEPA's Prevention of Significant Deterioration regulations. The Petitioner has 60 days from the date of this notice to file a petition in the United States Court of Appeals for the Seventh Circuit.

Dated: August 25, 2006.
Norman Niedergang,
Acting Regional Administrator, Region 5.

[FR Doc. E6-14853 Filed 9-7-06; 8:45 am]

BILLING CODE 6560-50-P